DEPARTMENT OF ENERGY

Federal Energy Regulatory Commission

[Docket No. CP02-390-000]

Columbia Gas Transmission Corporation; Notice of Request Under Blanket Authorization

July 3, 2002.

Take notice that on June 24, 2002, Columbia Gas Transmission Corporation (Columbia), 12801 Fair Lakes Parkway, Fairfax, Virginia 22030-0146, filed in Docket No. CP02-390-000, a request pursuant to 157.205 and 157.216 (18 CFR Sections 157.205 and 157.216) of the Commission's Regulations under the Natural Gas Act, for authorization to abandon its point of delivery to Columbia Gas of Pennsylvania (CPA) located in Washington County, Pennsylvania, under Columbia's blanket certificate issued in Docket No. CP83-76-000, all as more fully set forth in the request which is on file with the Commission and open to public inspection. Copies of this request are on file with the Commission and are available for public inspection. This request may also be viewed on the web at http://www.ferc.gov using the “RIMS” link, select “Docket #” and follow the instructions (call 202-208-2222 for assistance).

Columbia states that it was advised by CPA that Columbia's point of delivery in Washington County, Pennsylvania, known as Meadows Grandstand (MS#601143), is now being served from a CPA distribution line and that the service from Columbia is no longer needed. Columbia states that it is proposing to abandon by removal in its entirety the Meadowlands Grandstand point of delivery to CPA. Columbia states that it was authorized to own and operate the facilities proposed for abandonment in Docket No. CP71-132-000. Columbia's abandonment activities will consist of removing the station in its entirety and capping the tap.

Any questions concerning this request may be directed to Fredric J. George, Attorney, Columbia Gas Transmission Corporation, P. O. Box 1273, Charleston, West Virginia 25325-1273 at (304) 357-2359 or fax (304) 357-3206.

Any person or the Commission's staff may, within 45 days after issuance of the instant notice by the Commission, file pursuant to Rule 214 of the Commission's Procedural Rules (18 CFR 385.214) a motion to intervene or notice of intervention and, pursuant to Section 157.205 of the Regulations under the Natural Gas Act (18 CFR 157.205), a protest to the request. If no protest is filed within the time allowed therefor, the proposed activity shall be deemed to be authorized effective the day after the time allowed for filing a protest. If a protest is filed and not withdrawn within 30 days after the allowed time for filing a protest, the instant request shall be treated as an application for authorization pursuant to Section 7 of the Natural Gas Act.

Comments, protests and interventions may be filed electronically via the Internet in lieu of paper. See, 18 CFR 385.2001(a)(1)(iii) and the instructions on the Commission's web site under the “e-Filing” link.

Magalie R. Salas,
Secretary.

[FR Doc. 02-17384 Filed 7-10-02; 8:45 am]

BILLING CODE 6717-01-P